PRESIDIO TRUST

Notice of Intent To Prepare an Environmental Impact Statement and Conduct Scoping; Public Museum at the Presidio

AGENCY: The Presidio Trust.

ACTION: Notice of Intent to Prepare an Environmental Impact Statement.

SUMMARY: Pursuant to section 102(2)(c) of the National Environmental Policy Act (NEPA) of 1969, as amended (Pub. L. 91-190, 42 U.S.C. 4321 et seq.), the Presidio Trust (Trust) is notifying interested parties that it will prepare an environmental impact statement (EIS) for a proposed museum at the Presidio (proposed action) and engage in a scoping process to seek public input. The EIS will address the significant environmental impacts of constructing a new public museum and related structures totaling approximately 100,000 square feet within the Main Post district of the Presidio of San Francisco (Presidio), California. The public scoping process will determine the range of actions, alternatives and impacts to be considered in the EIS.

SUPPLEMENTARY INFORMATION: The Trust has received for its review an offer to lease the area south of the Main Parade Ground on the Main Post bounded by Moraga Avenue to the south, Arguello Boulevard to the east, Montgomery Street to the west, and Sheridan Avenue to the north (Project Site) for the purpose of constructing a new 100,000 square-foot museum. The Trust is considering the proposal because it believes that the presence of a major cultural institution such as the one proposed could serve as a catalyst for attracting other compatible uses to the Main Post. The proposed action would entail the demolition of the existing 12,800 square-foot Bowling Center (Building 93), the 3,030 square-foot Red Cross Building (Building 97), a 450-square foot garage (Building 98) and a tennis court. The museum building would be planned and completed consistent with the general design and technical recommendations for new construction at the Project Site that are within the Trust's Main Post Planning & Design Guidelines. In order for the proposed action to be considered successful, it should:

1. Provide a cultural experience of distinction at the Main Post that engages the public and that enhances the Presidio as a national park.

2. In keeping with the Presidio's character as a national park, ensure broad public accessibility to the premises and the program of a cultural institution.

3. Site and design new construction to enhance historically significant open spaces within the Main Post and to preserve the integrity of the National Historic Landmark District (NHLD).

4. Incorporate “green” design and sustainable principles and practices that lower energy consumption, conserve natural resources and reduce pollution.

5. Promote alternative forms of transportation to minimize the need for vehicle use by visitors as well as employees.

6. Be economically feasible and enhance the viability of the Presidio as a self-sustaining national park.

The Trust has determined that the proposed action may have significant effects on the human environment within the meaning of the NEPA. Because the Project Site was not identified as a “preferred location for a large museum” in the Presidio Trust Management Plan, the Trust's formally adopted policy statement for land use planning for Area B of the Presidio, the Trust intends to prepare an EIS to address potential environmental impacts from the proposed action and the range of reasonable alternatives.

In seeking tenants, the Trust is required to provide for “reasonable competition.” The Trust will promote competition for the project site by widely publicizing a request for proposals (RFP). Proposals received in response to the RFP may yield alternatives for analysis in the EIS, including a “preferred alternative” that may differ from the proposed action. Other alternatives to be considered may include the museum's location at one or more sites at Crissy Field (Area B) or within existing buildings on the Main Post. Potential impacts to be evaluated in the EIS include those on parking and traffic, visual resources, and those to the NHLD. Compliance with Section 106 of the National Historic Preservation Act will be a component of the EIS utilizing the public input, alternatives development, and assessment processes to address historic preservation requirements.

The Trust will announce the release of the EIS (expected to occur in early 2008) for review and comment through the publication of a Notice of Availability in the Federal Register, through postings on its Web site at http://www.presidio.gov and its regular electronic newsletter (Presidio E-news), as well as direct mailing to the project mailing list and other appropriate means.

DATES: Written comments or suggestions to assist in identifying significant environmental issues and in determining the appropriate scope of the EIS should be submitted on or before October 15, 2007. A public meeting will be held on September 24, 2007 beginning at 6:30 p.m., at the Presidio Officers' Club (50 Moraga Avenue) to accept oral comments on the scope of the EIS.

ADDRESSES: Electronic comments concerning this notice can be sent to PresidioMuseum@presidiotrust.gov. Written comments may be faxed to Presidio Museum at 415.561.5308. Written comments may also be submitted to Presidio Museum, Attn: NEPA Compliance Manager, The Presidio Trust, 34 Graham Street, P.O. Box 29052, San Francisco, CA 94129-0052. Please be aware that all written comments and information submitted will be made available to the public, including, without limitation, any postal address, e-mail address, phone number or other information contained in each submission.

FOR FURTHER INFORMATION CONTACT: John Pelka, 415.561.5300.

Dated: August 8, 2007.
Karen A. Cook,
General Counsel.

[FR Doc. E7-15892 Filed 8-13-07; 8:45 am]

BILLING CODE 4310-4R-P